DEPARTMENT OF DEFENSE

Office of the Secretary

[Docket ID: DoD-2013-OS-0058]

Submission for OMB Review; Comment Request

ACTION: Notice.

The Department of Defense has submitted to OMB for clearance, the following proposal for collection of information under the provisions of the Paperwork Reduction Act (44 U.S.C. Chapter 35).

DATES: Consideration will be given to all comments received by July 29, 2013.

Title, Associated Form and OMB Number: Synchronized Predeployment and Operational Tracker (SPOT) System; OMB Control Number 0704-0460.

Type of Request: Extension.

Number of Respondents: 1300.

Responses per Respondent: Average of 231.

Annual Responses: 300,000.

Average Burden per Response: 30 minutes.

Annual Burden Hours: 150,000.

Needs and Uses: In accordance with section 861 of Public Law 110-181 and DoD Instruction 3020.41, “Operational Contract Support” and other appropriate policy, Memoranda of Understanding, and regulations, the DoD Components, the Department of State (DoS), and the United States Agency for International Development (USAID) shall ensure that contractors enter data into the Synchronized Predeployment and Operational Tracker (SPOT) System before deployment outside of the United States. Data collection on contractors is a condition of their contract when DFARS 252.225-7040 is incorporated and persons who choose not to have data collected will not be entitled to employment opportunities which require this data to be collected.

Affected Public: Business or other for-profit.

Frequency: On occasion.

Respondent's Obligation: Required to Obtain or Retain Benefits.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: June 21, 2013.
Aaron Siegel,
Alternate OSD Federal Register Liaison Officer, Department of Defense.

[FR Doc. 2013-15317 Filed 6-26-13; 8:45 am]

BILLING CODE 5001-06-P